NUCLEAR REGULATORY COMMISSION

[Docket No. 030-03754]

Consideration of Amendment Request for Decommissioning the ABB Prospects, Inc. CE Windsor Site, Building Complexes 2, 5 and 17, in Windsor, CT, and Opportunity for a Hearing

AGENCY: Nuclear Regulatory Commission.

ACTION: Notice of consideration of amendment request for decommissioning the ABB Prospects, Inc. CE Windsor Site, Building Complexes 2, 5 and 17 in Windsor, Connecticut and opportunity for a hearing.

The U.S. Nuclear Regulatory Commission is considering issuance of a license amendment to By-Product Materials License No. 06-00217-06 (License No. 06-00217-06), issued to ABB Prospects, Incorporated, to authorize decommissioning of Building Complexes 2, 5 and 17 at the CE Windsor Site in Windsor, Connecticut.

The licensee has been performing limited decommissioning of Building Complexes 2, 5 and 17 at the CE Windsor site in accordance with the conditions described in License No. 06-00217-06. On January 7, 2002, the licensee submitted a Decommissioning Plan for Building Complexes 2, 5 and 17 at the CE Windsor Site to the NRC for review that summarized the decommissioning activities that will be undertaken to de-construct the buildings and remediate the remaining building slabs, basements, sub-surface utilities, and soil at the CE Windsor Site. Radioactive contamination at the licensee's CE Windsor Site consists of soils and building surfaces contaminated with uranium and byproduct material resulting from licensed operations that occurred from the late 1950s until 2001.

The NRC will require the licensee to remediate Building Complexes 2, 5 and 17 and the surrounding areas to meet the NRC's decommissioning criteria, and during decommissioning activities, to maintain effluents and doses within NRC requirements and as low as reasonably achievable.

Prior to approving the decommissioning plan, the NRC will have made findings required by the Atomic Energy Act of 1954, as amended, and NRC's regulations. Approval of the Decommissioning Plan for Building Complexes 2, 5 and 17 at the CE Windsor Site will be documented in an amendment to License No. 06-00217-06.

The NRC hereby provides notice that this is a proceeding on an application for amendment of a license falling within the scope of Subpart L “Informal Hearing Procedures for Adjudication in Materials Licensing Proceedings,” of NRC's rules and practice for domestic licensing proceedings in 10 CFR part 2. Pursuant to 10 CFR 2.1205(a), any person whose interest may be affected by this proceeding may file a request for a hearing in accordance with 10 CFR 2.1205(c). A request for hearing must be filed within thirty (30) days of the date of publication of the Federal Register Notice.

The request for the hearing must be filed with the Office of the Secretary either:

1. By delivery to the Document Control Desk or may be delivered to the Commission's Public Document Room, 11555 Rockville Pike, Rockville, MD 20852-2738; or

2. By mail or telegram addressed to the Secretary, U.S. Nuclear Regulatory Commission, Washington, DC 20555-0001, Attention: Rulemakings & Adjudications Staff.

In addition to meeting other applicable requirements of 10 CFR part 2 of the NRC's regulations, a request for a hearing filed by a person other than an applicant must describe in detail:

1. The interest of the requester in the proceeding;

2. How that interest may be affected by the results of the proceeding, including the reasons why the requester should be permitted a hearing, with particular reference to the factors set out in 10 CFR 2.1205(g);

3. The requesters areas of concern about the licensing activity that is the subject matter of the proceeding; and

4. The circumstances establishing that the request for a hearing is timely in accordance with 10 CFR 2.1205(c).

In accordance with 10 CFR 2.1205(e), each request for a hearing must also be served, by delivering it personally or by mail, to:

1. The applicant, ABB Prospects, Inc., CEP 880-1403, 2000 Day Hill Road, Windsor, CT 06095-0500, Attention: John Conant; and

2. The NRC staff, by delivery to the Executive Director for Operations, One White Flint North, 11555 Rockville Pike, Rockville, MD 20852, or by mail, addressed to the Executive Director for Operations, U.S. Nuclear Regulatory Commission, Washington, DC 20555.

For further details with respect to this action, the decommissioning plan is available for inspection at the NRC's Public Document Room, 11555 Rockville Pike, Rm 0-1, F23, Rockville, MD 20852.

Dated at King of Prussia, Pennsylvania, this 3rd day of April, 2002.
For the Nuclear Regulatory Commission.
Francis M. Costello,
Deputy Director, Division of Nuclear Materials Safety, RI.

[FR Doc. 02-8610 Filed 4-9-02; 8:45 am]

BILLING CODE 7590-01-P